COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 11/12/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 7/20/2012 (77 FR 42701-42702), 7/27/2012 (77 FR 44220), and 8/17/2012 (77 FR 49784), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 8455-00-NIB-0007—Neck Lanyard, Cord Style, Swivel Hook, Black, 36″ x .25″

NSN: 8455-00-NIB-0020—Neck Lanyard, Cord Style, Shielded Cardholder, Black, 36″ x .25″

NSN: 8455-00-NIB-0021—Neck Lanyard, Strap Style, Swivel Hook, Black, 36″ x .75″

NSN: 8455-00-NIB-0022—Neck Lanyard, Strap Style, Clip, Black, 36″ x .75″

NSN: 8455-00-NIB-0023—Neck Lanyard, Strap Style, Retractable Reel, Black, 36″ x .75″

NSN: 8455-00-NIB-0024—Neck Lanyard, Strap Style, Key Ring, Black, 36″ x .75″

Coverage: A-List for the Total Government Requirement as aggregated by the General Services Administration.

NSN: 8455-00-NIB-0005—Neck Lanyard, Cord Style, Clip, Black, 36″ x .25″

NSN: 8455-00-NIB-0031—Identification Card Holder, Opaque, 2.375″ x 3.5″

Coverage: B-List for the Broad Government Requirement as aggregated by the General Services Administration.

NPA: West Texas Lighthouse for the Blind, San Angelo, TX

Contracting Activity: General Services Administration, Fort Worth, TX

Services

Service Type/Location: Custodial Service, Fort Leonard Wood Area and Resident Office, Fort Leonard Wood, MO.

NPA: Challenge Unlimited, Inc., Alton, IL

Contracting Activity: Dept of the Army, W071 ENDIST Kansas City, Kansas City, MO

Service Type/Location: Custodial Service, Customs and Border Protection, Port Angeles Station, 110 South Penn St, Port Angeles, WA.

NPA: Morningside, Olympia, WA

Contracting Activity: Dept of Homeland Security, U.S. Customs and Border Protection, Procurement Directorate, Washington, DC

Service Type/Location: Base Operations Support Services (BOSS), Department of Public Works (DPW), 453 Novosel Street, Fort Rucker, AL.

NPA: PRIDE Industries, Roseville, CA

Contracting Activity: Dept of the Army, W6QM MICC-FT Rucker, Fort Rucker, AL

A commercial contractor submitted comments indicating its opposition to adding the services to the AbilityOne Procurement List. The contractor states that having the services provided by AbilityOne® Program nonprofit agencies will result in higher costs to the Government. The contractor argues that the services should be acquired through a competitive procurement involving small businesses.

The Committee for Purchase From People Who Are Blind or Severely Disabled (Committee) administers the AbilityOne Program in accordance with 41 U.S.C. 8501 et seq. Pursuant to the statute, the Commission's responsibilities include determining which products and services produced or provided by qualified nonprofit agencies employing people who are blind or with other severe disabilities, are suitable for procurement by the Government and establishing the fair market price for products and services placed on the Procurement List. Consequently, Congress has determined that it is in the Government's best interest to have a program designed to promote employment for people who are blind or severely disabled and have charged the members of the agency appointed by the President to make the appropriate programmatic decisions, including how the Government will acquire certain items and the price they will pay for such items. The commercial contractor that submitted comments did not provide any evidence that the services will not be provided at a fair market price as established by the Committee.

Information was also submitted from a representative of the Army contracting command headquarters responsible for this project. The representative provided information from the Performance Work Statement (PWS) for this project, including identification of specific services required in the PWS, and recommended that the Committee cite these in its description of the services to be added to the Procurement List.

When the Committee considers service projects for addition to the Procurement List, the PWS is among the documents provided for their consideration. Accordingly, the Committee has specific PWS information on the services and locations of the proposed project. The Committee's practice in describing a service requirement by name is to sufficiently inform the public and the applicable Federal agency that will procure the service, without identifying specific functions or tasks in that name. However, the service provided is defined more specifically within the Committee's records and is bounded by the Government's requirement as defined in the relevant PWS.

Barry S. Lineback,
Director, Business Operations.

[FR Doc. 2012-25113 Filed 10-11-12; 8:45 am]

BILLING CODE 6353-01-P